FEDERAL TRADE COMMISSION

Agency Information Collection Activities; Submission for OMB review; Comment Request

AGENCY: Federal Trade Commission (“FTC” or “Commission”).

ACTION: Notice.

SUMMARY: The FTC seeks public comments on its proposal to the Office of Management and Budget (“OMB”) to extend through August 31, 2016, the current Paperwork Reduction Act (“PRA”) clearance for the FTC's enforcement of the information collection requirements in its in its Telemarketing Sales Rule (“TSR”). That clearance expires on August 31, 2013.

DATES: Comments must be filed by July 25, 2013.

ADDRESSES: Interested parties may file a comment online or on paper, by following the instructions in the Request for Comment part of the SUPPLEMENTARY INFORMATION section below. Write “TSR PRA Comment, FTC File No. P094400” on your comment and file your comment online at https://ftcpublic.commentworks.com/ftc/tsrrulepra2 by following the instructions on the web-based form. If you prefer to file your comment on paper, mail or deliver your comment to the following address: Federal Trade Commission, Office of the Secretary, Room H-113 (Annex J), 600 Pennsylvania Avenue NW., Washington, DC 20580.

FOR FURTHER INFORMATION CONTACT: Craig Tregillus, Attorney, Division of Marketing Practices, Bureau of Consumer Protection, Federal Trade Commission, Room H-238, 600 Pennsylvania Ave. NW., Washington, DC 20580, (202) 326-2970.

SUPPLEMENTARY INFORMATION: On April 1, 2013, the Commission sought comment on the information collection requirements associated with the Telemarketing Sales Rule. 78 FR 19483 (Apr. 1, 2013). No comments were received. Pursuant to the OMB regulations, 5 CFR Part 1320, that implement the PRA, 44 U.S.C. 3501 et seq., the FTC is providing this second opportunity for public comment while seeking OMB approval to renew the pre-existing clearance for those information collection requirements. For more details about the Rule requirements, the background behind these information collection provisions, and the basis for the calculations summarized below, see 78 FR 19483.

Title: Telemarketing Sales Rule, 16 CFR Part 310.

OMB Control Number: 3084-0097.

Type of Review: Extension of currently approved collection.

Estimated Annual Burden:

Hours: 1,320,119 hours.¹

¹ This is a 135 hour increase from the 1,319,984 hours burden estimate in the April 1, 2013 Federal Register Notice, attributable to an inadvertent error previously in adding the Registry access hours burden.

Labor Costs: $16,338,449.²

² This is an increase from the labor cost estimate in the April 1, 2013 Federal Register Notice, mainly attributable to an intervening annual release from the Bureau of Labor Statistics. Within it, the mean hourly wage for “Computer Support Specialist” rose from the previously shown amount of $25 per hour to $25.59 (× 7,500 recordkeeping hours =$191,925); for “Office Clerks, General, from $14 to $14.07 (× 8,110 recordkeeping hours =$114,108); and for “Telemarketers” from $12 to $12.29 (× 1,304,374 disclosure hours = $16,030,756), resulting in the new total of $16,336,789. See http://www.bls.gov/news.release/pdf/ocwage.pdf. “Occupational Employment and Wages-May 2012,” Bureau of Labor Statistics, U.S. Department of Labor, released March 2013, Table 1 (“National employment and wage data from the Occupational Employment Statistics survey by occupation, May 2012”).

Non-Labor Costs: $5,101,732.³

³ This is an increase of $486 from the $5,101,246 non-labor costs estimate in the April 1, 2013 Federal Register Notice resulting from the 135 hour increase in the hours burden. See supra note 1.

Pursuant to the OMB regulations, 5 CFR Part 1320, that implement the PRA, 44 U.S.C. 3501 et seq., the FTC is providing a second opportunity for the public to comment while seeking OMB approval to renew the pre-existing clearance for the Rule.

You can file a comment online or on paper. For the Commission to consider your comment, we must receive it on or before July 25, 2013. Write “TSR PRA Comment, FTC File No. P094400” on your comment. Your comment—including your name and your state—will be placed on the public record of this proceeding, including to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16CFR 4.10(a)(2). In particular, do not include competitively sensitive information such as costs, sales statistics, inventories, formulas, patterns devices, manufacturing processes, or customer names.

If you want the Commission to give your comment confidential treatment, you must file it in paper form, with a request for confidential treatment, and you have to follow the procedure explained in FTC Rule 4.9(c). Your comment will be kept confidential only if the FTC General Counsel, in his or her sole discretion, grants your request in accordance with the law and the public interest.

Postal mail addressed to the Commission is subject to delay due to heightened security screening. As a result, we encourage you to submit your comments online. To make sure that the Commission considers your online comment, you must file it at https://ftcpublic.commentworks.com/ftc/tsrrulepra2, by following the instructions on the web-based form. If this Notice appears at http://www.regulations.gov/#!home, you also may file a comment through that Web site.

If you file your comment on paper, write “TSR PRA Comment, FTC File No. P094400” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at www.ftc.gov to read this Notice. The FTC Act and other laws that the Commission administers permit the collection of public comments to consider and use in this proceeding as appropriate. The Commission will consider all timely and responsive public comments that it receives on or before July 25, 2013. You can find more information, including routine uses permitted by the Privacy Act, in the Commission's privacy policy, at http://www.ftc.gov/ftc/privacy.htm.

Comments on the disclosure requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

John F. Daly,
Acting General Counsel.

[FR Doc. 2013-15088 Filed 6-24-13; 8:45 am]

BILLING CODE 6750-01-P